DEPARTMENT OF COMMERCE

National Oceanic and Atmospheric Administration

[I.D. 032603A]

Endangered and Threatened Species; Take of Anadromous Fish

AGENCY: National Marine Fisheries Service (NMFS), National Oceanic and Atmospheric Administration (NOAA), Commerce.

ACTION: Receipt of an application for a scientific research/enhancement permit (1288) and request for comment.

SUMMARY: Notice is hereby given that NMFS has received an application for a permit from Dynamac/USEPA in Corvallis, OR (1288). The permit would affect five Evolutionarily Significant Units (ESUs) of salmonids identified in the SUPPLEMENTARY INFORMATION section. This document serves to notify the public of the availability of the permit application for review and comment before a final approval or disapproval is made by NMFS.

DATES: Written comments on the permit application must be received no later than 5 p.m. Daylight Savings Time on May 2, 2003.

ADDRESSES: Written comments on the modification request should be sent to the appropriate office as indicated below. Comments may also be sent via fax to the number indicated for the request. Comments will not be accepted if submitted via e-mail or the internet. The applications and related documents are available for review in the indicated office, by appointment: For permit 1288: Diana Hines, Protected Species Division, NMFS, 777 Sonoma Avenue, Room 325, Santa Rosa, CA 95404 6528 (ph: 707 575 6057, fax: 707 578 3435). Documents may also be reviewed by appointment in the Office of Protected Resources, F/PR3, NMFS, 1315 East-West Highway, Silver Spring, MD 20910 3226 (301 713 1401).

FOR FURTHER INFORMATION CONTACT: Diana Hines at phone number 707-575-6057, or e-mail: diana.hines@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NMFS. All statements and opinions contained in the permit action summaries are those of the applicant and do not necessarily reflect the views of NMFS.

Species Covered in This Notice

This notice is relevant to the following five threatened salmonid ESUs: threatened Southern Oregon/Northern California Coast coho salmon O. kisutch, threatened Central California Coast coho salmon, threatened Northern California Steelhead O. mykiss, threatened Central California Coast steelhead, and threatened California Coastal Chinook salmon O. tshawytscha.

Modification Request Received

Dynamac/USEPA requests permit 1288 for takes of juvenile ESA-listed coho salmon, steelhead and Chinook salmon associated with studies assessing presence and population abundances of species in selected streams throughout California. Dynamac/USEPA has proposed to use electrofishing as the method of capture. Permit 1288 will expire June 30, 2008.

Dated: March 28, 2003.
Phil Williams,
Chief, Endangered Species Division, Office of Protected Resources, National Marine Fisheries Service.

[FR Doc. 03-7969 Filed 4-1-03; 8:45am]

BILLING CODE 3510-22-S